FEDERAL COMMUNICATIONS COMMISSION

47 CFR Part 79

[MM Docket No. 99-339; FCC 00-258]

Implementation of Video Description of Video Programming

AGENCY: Federal Communications Commission.

ACTION: Final rule; correction.

SUMMARY: This document corrects the effective date of the final rule which was published in the Federal Register of September 11, 2000 (65 FR 54805), regarding the adoption of rules and requirements for television video programming description. The DATES section of the final rule is corrected as set forth below.

DATES: Effective April 1, 2002, except for § 79.2 which contains information collections which have not yet been approved by OMB. The Commission will publish a document in the Federal Register announcing the effective date of that section.

FOR FURTHER INFORMATION CONTACT: Eric Bash, Policy and Rules Division, Mass Media Bureau (202) 418-2130.

SUPPLEMENTARY INFORMATION: As originally published, the revision of both the part heading and the authority citation did not have an effective date. This document corrects that omission.

Federal Communications Commission.
William F. Caton,
Deputy Secretary.

[FR Doc. 00-24185 Filed 9-19-00; 8:45 am]

BILLING CODE 6712-01-U